DEPARTMENT OF TRANSPORTATION

Federal Aviation Administration

14 CFR Part 39

[Docket No. FAA-2006-24990; Directorate Identifier 2006-NM-013-AD; Amendment 39-14772; AD 2006-20-03]

RIN 2120-AA64

Airworthiness Directives; Airbus Model A319, A320, and A321 Airplanes

AGENCY: Federal Aviation Administration (FAA), Department of Transportation (DOT).

ACTION: Final rule.

SUMMARY: The FAA is adopting a new airworthiness directive (AD) for certain Airbus Model A319, A320, and A321 airplanes. This AD requires an inspection to determine if the stiff part of the girt and girt bar position of the forward left-hand and right-hand passenger doors is incorrect, and repair if necessary. This AD results from cases of girt bar disengagement from the floor fitting during deployment tests of slide rafts at the forward passenger doors. We are issuing this AD to prevent disengagement of the telescopic girt bar from the airplane when the door is opened in emergency situations, which could result in the inability to open the passenger door and to use the escape slide/raft at that door during an emergency evacuation of the airplane.

DATES: This AD becomes effective November 2, 2006.

The Director of the Federal Register approved the incorporation by reference of a certain publication listed in the AD as of November 2, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Dan Rodina, Aerospace Engineer, International Branch, ANM-116, FAA, Transport Airplane Directorate, 1601 Lind Avenue, SW., Renton, Washington 98057-3356; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A319, A320, and A321 airplanes. That NPRM was published in the Federal Register on June 12, 2006 (71 FR 33661). That NPRM proposed to require an inspection to determine if the stiff part of the girt and girt bar position of the forward left-hand and right-hand passenger doors is incorrect, and repair if necessary.

Comments

We provided the public the opportunity to participate in the development of this AD. We have considered the comments received.

Support for the NPRM

Airbus agrees with the NPRM.

Request To Withdraw the NPRM

The Air Transport Association (ATA), on behalf of its member, US Airways, requests that we clarify the impact of AD 2005-23-05 on the NPRM. (On October 25, 2005, we issued AD 2005-23-05, amendment 39-14363 (70 FR 69063, November 14, 2005), for certain Airbus Model A319-100, A320-200, and A321-100 and -200 series airplanes. AD 2005-23-05 requires modification of the telescopic girt bar of the escape slide/raft assembly, and follow-on actions. AD 2005-23-05 also requires a new modification of the telescopic girt bar and the installation of placards on the modified girt bars, which terminate the repetitive functional tests. We issued AD 2005-23-05 to prevent failure of the escape slide/raft to deploy correctly, which could result in the slide being unusable during an emergency evacuation and consequent injury to passengers or airplane crewmembers.) US Airways states that the intent of the NPRM has already been accomplished with AD 2005-23-05. US Airways asserts that AD 2005-23-05 requires replacement of the telescopic girt bar on affected slide rafts, and that during replacement of the girt bar, the girt is reinstalled using the same instructions referenced in the NPRM. US Airways points out that the compliance time of AD 2005-23-05 is August 19, 2007. Therefore, US Airways requests that we either withdraw the NPRM or grant AD 2005-23-05 as an alternative method of compliance (AMOC) to the NPRM.

We do not agree to withdraw this AD, since the applicability of AD 2005-23-05 and this AD do not exactly match. Also, this AD mandates a shorter compliance time than AD 2005-23-05. However, we do agree to provide credit for accomplishing the actions in paragraph (g) of AD 2005-23-05. Paragraph (g) of AD 2005-23-05 references Airbus Service Bulletin A320-52-1112, Revision 05, dated June 25, 2004, as the appropriate source of service information for modifying the telescopic girt bar. We have reviewed Airbus Service Bulletin A320-52-1112, Revision 05, and have determined that accomplishing the actions in that service bulletin is acceptable for accomplishing the actions specified in paragraph (f) of this AD. Therefore, we have added a new paragraph (h) to this AD allowing credit for accomplishment of paragraph (g) of AD 2005-23-05. We have reidentified the subsequent paragraphs accordingly.

Change to the Cost of Compliance

We have reduced our estimate for the number of affected airplanes of U.S. registry.

Conclusion

We have carefully reviewed the available data, including the comments received, and determined that air safety and the public interest require adopting the AD with the changes described previously. We have determined that the changes will neither increase the economic burden on any operator nor increase the scope of the AD.

Costs of Compliance

This AD affects about 200 airplanes of U.S. registry. The actions in this AD take about 1 work hour per airplane, at an average labor rate of $80 per work hour. Based on these figures, the estimated cost of the AD for U.S. operators is $16,000, or $80 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-20-03 Airbus: Amendment 39-14772. Docket No. FAA-2006-24990; Directorate Identifier 2006-NM-013-AD.

Effective Date

(a) This AD becomes effective November 2, 2006.

Affected ADs

(b) None.

Applicability

(c) This AD applies to Airbus Model A319, A320, and A321 airplanes, certificated in any category; on which Airbus Modification 20233, 25902, or 24365 (installation of slide raft) has been done in production; excluding those airplanes having manufacturer's serial numbers 1794, 2155, 2195, 2204, 2231, 2239, 2244, 2246, 2247, 2252, 2254, 2255, 2257, 2259, 2261, 2263, 2267, 2273, 2274, 2275, 2278, 2280, 2282, 2284, 2286, 2288, 2297, 2301, 2307, 2310, 2314, 2327, 2369, and subsequent.

Unsafe Condition

(d) This AD results from cases of girt bar disengagement from the floor fitting during deployment tests of slide rafts at the forward passenger doors. We are issuing this AD to prevent disengagement of the telescopic girt bar from the airplane when the door is opened in emergency situations, which could result in the inability to open the passenger door and to use the escape slide/raft at that door during an emergency evacuation of the airplane.

Compliance

(e) You are responsible for having the actions required by this AD performed within the compliance times specified, unless the actions have already been done.

Inspection and Repair

(f) Within 200 days after the effective date of this AD, do a general visual inspection to determine if the stiff part of the girt and girt bar position of the forward left-hand and right-hand passenger doors is incorrect, in accordance with the Accomplishment Instructions of Airbus Service Bulletin A320-25-1394, Revision 01, dated December 12, 2005. If the stiff part of the girt or the girt bar position is incorrect, before further flight, repair in accordance with the service bulletin.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

(g) Inspecting and repairing if necessary before the effective date of this AD in accordance with Airbus Service Bulletin A320-25-1394, dated July 23, 2004, is acceptable for compliance with the requirements of paragraph (f) of this AD.

Credit for AD 2005-23-05, Amendment 39-14363

(h) Accomplishing the actions required by paragraph (g) of AD 2005-23-05 is acceptable for compliance with the corresponding requirements of paragraph (f) of this AD.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) French airworthiness directive F-2005-172, issued December 21, 2005, also addresses the subject of this AD.

Material Incorporated by Reference

(k) You must use Airbus Service Bulletin A320-25-1394, Revision 01, dated December 12, 2005, to perform the actions that are required by this AD, unless the AD specifies otherwise. The Director of the Federal Register approved the incorporation by reference of this document in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 14, 2006.
Kalene C. Yanamura,
Acting Manager, Transport Airplane Directorate, Aircraft Certification Service.

[FR Doc. 06-8229 Filed 9-27-06; 8:45 am]

BILLING CODE 4910-13-P